DEPARTMENT OF ENERGY

National Nuclear Security Administration

Agency Information Collection Extension

AGENCY: National Nuclear Security Administration, Department of Energy.

ACTION: Notice and request for comments.

SUMMARY: Pursuant to the Paperwork Reduction Act of 1995, the Department of Energy (DOE) intends to extend for three years, an information collection request with the Office of Management and Budget (OMB).

DATES: Comments regarding this proposed information collection must be received on or before November 24, 2020. If you anticipate difficulty in submitting comments within that period, contact the person listed below as soon as possible.

ADDRESSES: Written comments to Jessica Norles, Foreign Affairs Specialist, by mail at Office of Nonproliferation and Arms Control, National Nuclear Security Administration, U.S. Department of Energy, 1000 Independence Ave. SW, Washington, DC 20585, or by fax at (202) 586-1348 or by email at jessica.norles@nnsa.doe.gov. Due to potential delays in DOE's receipt and processing of mail sent through the U.S. Postal Service, DOE encourages responders to submit comments electronically to ensure timely receipt.

FOR FURTHER INFORMATION CONTACT: For other questions, contact Jessica Norles, Foreign Affairs Specialist, Office of Nonproliferation and Arms Control, National Nuclear Security Administration, U.S. Department of Energy, 1000 Independence Ave. SW, Washington, DC 20585, jessica.norles@nnsa.doe.gov, (202) 586-2271.

SUPPLEMENTARY INFORMATION: DOE published in the Federal Register a Notice of Availability for the American Assured Fuel Supply (AAFS). 76 FR 51357 (Aug. 18, 2011), and an application to standardize the information that must be provided in a request to access the material in the AAFS. 78 FR 72071 (Dec. 2, 2013). DOE previously submitted an information collection extension request to the OMB for an extension under the Paperwork Reduction Act of 1995 in 2017. 82 FR 17650 (April 12, 2017).

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5173; (2) Information Collection Request Title: The American Assured Fuel Supply Program; (3) Type of Review: Extension; (4) Purpose: DOE created the AAFS, a reserve of low enriched uranium (LEU) to serve as a backup fuel supply for foreign recipients to be supplied through U.S. persons, or for domestic recipients, in the event of fuel supply disruption. This effort supports the United States Government's nuclear nonproliferation objectives by supporting civilian nuclear energy development while minimizing proliferation risks. This collection of information in the event of supply disruption is necessary for DOE to identify if applicants meet basic requirements to access the AAFS and implement this important nonproliferation initiative; (5) Annual Estimated Number of Respondents: 10; (6) Annual Estimated Number of Total Responses: 10; (7) Annual Estimated Number of Burden Hours: 8 per respondent for a total of 80 per year; (8) Annual Estimated Reporting and Recordkeeping Cost Burden: $960.13 per respondent for a total of $9,601.28 per year.

Signing Authority

This document of the Department of Energy was signed on September 22, 2020, by Brent K. Park, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

[FR Doc. 2020-21222 Filed 9-24-20; 8:45 am]

BILLING CODE 6450-01-P